DEPARTMENT OF AGRICULTURE

Animal and Plant Health Inspection Service

7 CFR Part 360

[Docket No. 04-037-2]

Noxious Weeds; Notice of Availability of Petitions To Regulate Caulerpa

AGENCY: Animal and Plant Health Inspection Service, USDA.

ACTION: Petition and request for comments; reopening of comment period.

SUMMARY: We are reopening the comment period for our notice announcing the receipt of two petitions requesting that additional aquatic plants of the genus Caulerpa be added to the list of noxious weeds. This action will allow interested persons additional time to prepare and submit comments.

DATES: We will consider all comments that we receive on or before January 26, 2005.

ADDRESSES: You may submit comments by any of the following methods:

• EDOCKET: Go to http://www.epa.gov/feddocket to submit or view public comments, access the index listing of the contents of the official public docket, and to access those documents in the public docket that are available electronically. Once you have entered EDOCKET, click on the “View Open APHIS Dockets” link to locate Docket 04-037-1.

• Postal Mail/Commercial Delivery: Please send four copies of your comment (an original and three copies) to Docket No. 04-037-1, Regulatory Analysis and Development, PPD, APHIS, Station 3C71, 4700 River Road Unit 118, Riverdale, MD 20737-1238. Please state that your comment refers to Docket No. 04-037-1.

• E-mail: Address your comment to regulations@aphis.usda.gov. Your comment must be contained in the body of your message; do not send attached files. Please include your name and address in your message and “Docket No. 04-037-1” on the subject line.

• Federal eRulemaking Portal: Go to http://www.regulations.gov and follow the instructions for locating this docket and submitting comments.

Petitions: The petitions discussed in this document are available on the APHIS Web site at http://www.aphis.usda.gov/ppq/weeds/ or from the individual listed as the contact for further information.

Reading Room: You may read any comments that we receive on Docket 04-037-1 in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Dr. Alan V. Tasker, Noxious Weeds Program Coordinator, Invasive Species and Pest Management, PPQ, APHIS, 4700 River Road Unit 134, Riverdale, MD 20737-1237; (301) 734-5225.

SUPPLEMENTARY INFORMATION:

Background

On October 26, 2004, the Animal and Plant Health Inspection Service (APHIS) published in the Federal Register (69 FR 62419-62421, Docket No. 04-037-1) a notice in which we announced the receipt of, and requested comments on, two petitions from the International Center for Technology Assessment. The first petition requested that APHIS add the entire genus Caulerpa to the list of noxious weeds. The second petition requested, in the case that the first petition was denied, that all varieties of the species C. taxifolia be added to the list of noxious weeds.

Comments on the petitions were required to be received on or before December 27, 2004. We are reopening the comment period on Docket No. 04-037-1 for an additional 30 days from the original close of the comment period. This action will allow interested persons additional time to prepare and submit comments. We will consider all comments received between December 28, 2004 (the day after the close of the original comment period) and the date of this notice.

Authority: 7 U.S.C. 7711-7714, 7718, 7731, 7751, and 7754; 7 CFR 2.22, 2.80, and 371.3.

Done in Washington, DC, this 10th day of January 2005.
Elizabeth E. Gaston,
Acting Administrator, Animal and Plant Health Inspection Service.

[FR Doc. 05-801 Filed 1-13-05; 8:45 am]

BILLING CODE 3410-34-P